DEPARTMENT OF COMMERCE

National Oceanic and Atmospheric Administration

[RTID 0648-XB330]

Notice of Availability of a Draft Environmental Impact Statement for the Bering Sea and Aleutian Islands Halibut Abundance-Based Management of Amendment 80 Prohibited Species Catch Limit

AGENCY: National Marine Fisheries Service (NMFS), National Oceanic and Atmospheric Administration (NOAA), Commerce.

ACTION: Notice of availability of a draft environmental impact statement (DEIS); request for comments.

SUMMARY: This DEIS is prepared pursuant to the National Environmental Policy Act (NEPA) to assess the environmental impacts from alternatives associated with a proposed management measure to link the Pacific halibut (Hippoglossus stenolepis) prohibited species catch (PSC) limit for the Amendment 80 commercial groundfish trawl fleet in the Bering Sea and Aleutian Islands (BSAI) groundfish fisheries to halibut abundance. The objectives of linking the PSC limit are to minimize halibut PSC to the extent practicable under National Standard 9 of the Magnuson-Stevens Fishery Conservation and Management Act (MSA) and to achieve optimum yield in the BSAI groundfish fisheries on a continuing basis under National Standard 1. The action would also be expected to provide incentives for the Amendment 80 fleet to minimize halibut mortality at all times. Achievement of these objectives could result in additional harvest opportunities in the commercial halibut fishery.

DATES: Comments must be received on or before October 25, 2021.

ADDRESSES: You may submit comments, identified by NOAA-NMFS-2021-0074, by any of the following methods:

• Electronic Submission: Submit all electronic public comments via the Federal eRulemaking Portal. Go to https://www.regulations.gov and enter NOAA-NMFS-2021-0074 in the Search box. Click the “Comment” icon, complete the required fields, and enter or attach your comments.

• Mail: Submit written comments to Glenn Merrill, Assistant Regional Administrator, Sustainable Fisheries Division, Alaska Region NMFS, Attn: Records Office. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the DEIS may be obtained from http://www.regulations.gov or from the NMFS Alaska Region website at https://www.fisheries.noaa.gov/alaska/bycatch/bering-sea-and-aleutian-islands-bsai-halibut-abundance-based-management.

FOR FURTHER INFORMATION CONTACT: Joseph Krieger, telephone: 907-586-7221.

SUPPLEMENTARY INFORMATION: The International Pacific Halibut Commission (IPHC) and NMFS manage Pacific halibut fisheries through regulations established under the authority of the Northern Pacific Halibut Act of 1982 (Halibut Act) (16 U.S.C. 773-773k). The IPHC adopts regulations governing the target fishery for Pacific halibut under the Convention between the United States of America and Canada for the Preservation of the Halibut Fishery of the Northern Pacific Ocean and Bering Sea (Convention), signed at Ottawa, Ontario, on March 2, 1953, as amended by a Protocol Amending the Convention (signed at Washington, DC, on March 29, 1979). For the United States, regulations governing the fishery for Pacific halibut developed by the IPHC are subject to acceptance by the Secretary of State with concurrence from the Secretary of Commerce. After acceptance by the Secretary of State with the concurrence of the Secretary of Commerce, NMFS publishes the IPHC regulations in the Federal Register as annual management measures pursuant to 50 CFR 300.62. IPHC and NMFS regulations authorize the harvest of halibut in commercial, personal use, sport and subsistence fisheries by hook-and-line gear and pot gear. In the BSAI, (which largely coincides with IPHC Regulatory Area 4 (hereafter referred to as “Area 4”) and its five subsareas (ABCDE)), halibut is harvested in all of these fisheries.

Section 5(c) of the Halibut Act also provides the North Pacific Fisheries Management Council (Council) with authority to develop regulations that are in addition to, and not in conflict with, approved IPHC regulations. The Council has exercised this authority in the development of Federal regulations for the halibut fishery such as (1) subsistence halibut fishery management measures, codified at 50 CFR 300.65; (2) the limited access program for charter vessels in the guided sport fishery, codified at § 300.67; and (3) the Individual Fishing Quota (IFQ) Program for the commercial halibut and sablefish fisheries, codified at 50 CFR part 679, under the authority of Section 5 of the Halibut Act and Section 303(b) of the MSA.

The Council manages the groundfish fisheries of the BSAI under the authority of the MSA and the Fishery Management Plan for the Groundfish for the Bering Sea and Aleutian Islands (BSAI FMP). National Standard 9 of the MSA requires that fishery conservation and management measures shall, to the extent practicable: (1) Minimize bycatch; and (2) to the extent bycatch cannot be avoided, minimize the mortality of such bycatch.

In the BSAI FMP, the Council has designated Pacific halibut, along with several other fully utilized species such as salmon, herring, and crab species, as “prohibited species” in the groundfish fisheries (Section 3.6.1 of the BSAI FMP). By regulation, the operator of any vessel fishing for groundfish in the BSAI must minimize the catch of prohibited species (§ 679.21(a)(2)(i)). The Council has also set catch limits for individual PSC species, which are defined in BSAI FMP Section 3.6.2.1. Under the designation as a PSC species; their capture is required to be avoided; and their retention is prohibited except when retention is required or authorized by other applicable law. Unintended removals of prohibited species are separately monitored and controlled under the BSAI FMP.

The Council does not have authority to set catch limits for the commercial halibut fisheries, and halibut PSC in the groundfish fisheries is only one of the factors that affects harvest limits for the commercial halibut fisheries. Nonetheless, halibut PSC in the groundfish fisheries is a significant portion of total mortality in BSAI IPHC areas and has the potential to affect catch limits for the commercial halibut fisheries in Area 4 under the current IPHC harvest policy. While the impact of halibut PSC reductions on catch limits for commercial halibut fisheries is dependent on IPHC policy and management decisions, reductions to the current Amendment 80 halibut PSC limit in the BSAI could provide additional harvest opportunities in the BSAI commercial halibut fishery.

A Notice of Intent to prepare this DEIS was published in the Federal Register on December 12, 2017 (82 FR 58374). This DEIS analyzes alternative management measures to link the Pacific halibut PSC limit for the Amendment 80 commercial groundfish trawl fleet in the BSAI groundfish fisheries to halibut abundance. The Council is considering a program that provides incentives for the fleet to minimize halibut mortality at all times, that could promote conservation of the halibut stock, and may provide additional opportunities for the directed halibut fishery.

Pacific halibut is targeted in Alaska in commercial, personal use, recreational (sport), and subsistence halibut fisheries. Halibut has significant social, cultural, and economic importance to fishery participants and communities throughout the geographic range of the resource. Halibut is also incidentally taken as bycatch in commercial groundfish fisheries.

The Council is examining abundance-based approaches to set the halibut PSC limit for the Amendment 80 sector in the BSAI. Currently halibut PSC limits for groundfish fishery sectors are set in the BSAI FMP at a fixed amount of halibut mortality in metric tons. When halibut abundance declines, halibut PSC becomes a larger proportion of total halibut removals and can result in lower catch limits for directed halibut fisheries. This action is limited to the Amendment 80 sector because that sector is responsible for the majority of BSAI halibut mortality in the groundfish fisheries. In light of the continued decline of the halibut stock, both the Council and the IPHC have expressed concern about impacts on directed halibut fisheries under the status quo and identified abundance-based halibut PSC limits as a potential management approach to address these concerns.

Authority: 16 U.S.C. 1801 et seq.

Dated: September 2, 2021.
Jennifer M. Wallace,
Acting Director, Office of Sustainable Fisheries, National Marine Fisheries Service.

[FR Doc. 2021-19380 Filed 9-7-21; 8:45 am]

BILLING CODE 3510-22-P